DEPARTMENT OF TRANSPORTATION

Surface Transportation Board

[STB Finance Docket No. 32607 (Sub-No. 3]

Kiamichi Railroad L.L.C.—Trackage Rights Exemption—WFEC Railroad Company

WFEC Railroad Company (WFECR) has agreed to grant overhead trackage rights to Kiamichi Railroad L.L.C. (KRR) over its entire 14-mile rail line in Choctaw and McCurtain Counties, OK.¹

¹ WFECR previously granted bridge trackage rights to two other carriers to use its line. See DeQueen & Eastern Railroad Company and Texas, Oklahoma & Eastern Railroad Company—Trackage Rights Exemption—WFEC Railroad Company, STB Finance Docket No. 32607 (Sub-No. 2) (STB served Apr. 17, 1997).

The transaction is scheduled to be consummated on or after the May 8, 2002 effective date of the exemption. The purpose of the trackage rights is to permit KRR to provide rail service to the Western Farmers Electric Cooperative, Inc. (Western Farmers) Hugo electric generating station under new commercial arrangements among KRR, WFECR and Western Farmers.²

² KRR will have overhead rights to provide service to Western Farmers and will have no authority to serve any other shippers that might locate on the line. WFECR will retain the authority and responsibility for serving any such shippers.

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 32607 (Sub-No. 3) must be filed with the Surface Transportation Board, Case Control Unit, 1925 K Street NW, Washington, DC 20423-0001. In addition, a copy of each pleading must be served on John H. LeSeur, Slover & Loftus, 1224 Seventeenth Street, NW, Washington, DC 20036.

Board decision and notices are available on our website at “WWW.STB.DOT.GOV.”

Decided: May 9, 2002.
By the Board, David M. Konschnik, Director, Office of Proceedings.
Vernon A. Williams,
Secretary.

[FR Doc. 02-12274 Filed 5-15-02; 8:45 am]

BILLING CODE 4915-00-P